DEPARTMENT OF AGRICULTURE

Forest Service

Salmon-Challis National Forest, Idaho; Salmon-Challis National Forest Travel Management Plan and Off-highway Vehicle Designation

AGENCY: Forest Service, USDA.

ACTION: Notice of intent to prepare an Environmental Impact Statement.

SUMMARY: The USDA, Forest Service will prepare an environmental impact statement to designate a portion of the National Forest roads, trails, and areas open to public motor vehicle use on the Salmon-Challis National Forest (SCNF), and assign the type of use(s) and season of use allowed on each road and trail or portion thereof. Additionally, the Forest Service will designate some previously unauthorized (or user-created) routes for public motor vehicle use and assign the type of use(s) and season of use allowed on each route or portion thereof. Decisions regarding motorized travel do not include motorized travel over snow. A Motor Vehicle Use Map (MVUM) depicting those routes that will be open to public motorized travel on the SCNF will be the primary tool to determine compliance with, and enforcement of, motorized vehicle use designations on the ground. Existing routes and user-created routes not designated as open on the MVUM will be legally closed to motorized travel. The SCNF currently has 980,700 acres open to motorized cross-country travel. Those acres will be closed year-round to motorized cross country travel, excluding over-snow vehicles.

DATES: Written comments concerning the proposed action should be received by September 14, 2007. The draft environmental impact statement is expected to be released in March 2008 and the final environmental impact statement is expected in August 2008.

ADDRESSES: Send written comments to Salmon-Challis National Forest, ATTN: Travel Management Planning, 1206 South Challis Street, Salmon, ID 83467.

FOR FURTHER INFORMATION CONTACT: Karen Gallogly, Travel Planning Team Leader, Salmon-Challis National Forest, 1206 South Challis Street, Salmon, ID 83467. Telephone: (208) 756-5103.

SUPPLEMENTARY INFORMATION:

Purpose and Need

The purpose of this action is to designate a public motorized vehicle transportation system for the SCNF that addresses current and anticipated recreation needs, provides a variety of recreation access opportunities, considers management concerns (such as public safety, maintenance costs, and consistency with adjoining public lands), reduces impacts to forest resources, recognizes reserved or outstanding rights, and reduces conflicts between recreational uses.

The need for this action is to meet national direction published in the Federal Register, 36 CFR Parts 212, 251, 261, 295 Travel Management: Designated Routes and Areas for Motor Vehicle Use” (Federal Register 2005: 70 FR 68264) (Travel Management Rule). This rule requires designation of those roads, trails, and areas open to motor vehicle use on Forest System Lands. The rule prohibits the use of motor vehicles off the designated system, as well as use of motor vehicles on routes and in areas that are not consistent with the designation.

Proposed Action

The project area includes the approximate 3.0 million acres under the administration of the SCNF, excluding the approximate 1.3 million acre-Frank Church River of No Return Wilderness Area which is Congressionally mandated as non-motorized.

The proposed action is the Forest's initial description of designated roads, trails and areas which would be available for public motor vehicle use on the SCNF. The proposed action is based on existing travel plans for both the Salmon and Challis National Forests and input gathered from the public, cooperating agencies and organizations, and Forest Service specialists during meetings, workshops, and field trips held from summer 2006 through May 2007. This proposal is only one alternative that will be evaluated in the Environmental Impact Statement for the Salmon-Challis National Forest Travel Management Plan and Off-highway Vehicle Designation.

The proposed action identifies approximately 3,400 miles of roads designated for motorized public use and about 1,100 miles of motorized trails. This proposal would prohibit all motorized cross country travel and close all roads, trails, and routes not specifically designated for motorized public use. Off-route access would be permitted for 300 feet on either side of designated motorized routes, except the Salmon River Road (FR #30) to accommodate access to and from dispersed campsites only. Camping with the use of a motor vehicle (e.g. car, motor-home, truck and camp trailer, camper, off-highway vehicle, or motorcycle) is only allowed in designated dispersed camping areas and designated pull-outs along the Salmon River Road (FR #30). Day-use parking is allowed along the Salmon River Road. Motor vehicle use for big game retrieval off of designated roads or designated motorized trails would not be allowed. Motorized use beyond those limits would be subject to citations and fines by law enforcement.

The following uses would not be affected by this decision and are outside the scope of this project: (1) Over-snow vehicles; (2) aircraft; (3) watercraft; (4) non-motorized uses (e.g. hiking, equestrian, mountain bikes); (5) search and rescue operations; (6) law enforcement operations; (7) firefighting operations; (8) permitted uses (e.g. woodcutting, livestock herding/fence maintenance; (9) limited administrative access; (10) legal ingress and egress to private land; (11) new or non-national forest roads; and (12) use of roads with legally documented rights-of-way held by state, county or other public road authority.

Detailed maps and data tables displaying proposed designated roads and trails across the Forest, and designated dispersed camping areas and pull outs along the Salmon River Road are posted on the SCNF Web site at: http://www.fs.fed.us/r4/sc/

Forest Plan Amendment

The Challis National Forest Land Resource Management Plan would be amended as part of the SCNF Forest Travel Management Plan project to include changes to the two sections outlined below.

Challis National Forest Plan Amendment #9: Forestwide Management Direction Standards and Guidelines.

Current Direction

Clause d. Proposed Wilderness.

Continue existing ORV closures or expand closures where needed to allow adverse impacts from ORV's to heal. May allow ORV use to continue on the following roads and/or trails:

a. Toolbox-Herd Peak Trail #051—Between the ridgetop at the head of Toolbox Canyon, to Herd Peak—on the two short segments of this trail which dip into the proposed wilderness area; two-wheeled motorized and mechanized vehicles only.

b. Wildhorse Road #136—From proposed wilderness boundary (¼ mile above Wildhorse Campground) to end of current road; no vehicle size restrictions.

c. Long Lost Creek Road #434—From proposed wilderness boundary to Trailhead for Long Lost Trail #194; no vehicle size restrictions.

d. Long Lost Trail #194—From Long Lost Creek Road #434 to end of trail; two wheel, motorized and mechanized vehicles only.

e. Swauger Lakes Trail #091—From Long Lost Creek Road #434 to Dry Creek Trail #240; two-wheel, motorized and mechanized vehicles only.

f. Long Lost-Wet Creek Trail #245—From Long Lost Trail #194 to Shadow Lakes; two wheel, motorized and mechanized vehicles only.

Amended Directon

Clause d. Proposed Wilderness; item d described above would be removed from the list.

Long Lost Trail #194 would not be a designated motorized route and would not be open for motorized public use.

Challis National Forest Plan Amendment #9:

Management Area Direction for Management Area #16 Borah Peak, Recreation, Management Area Direction.

Current Direction

Clause c. Swauger Lakes Trail #091—from Long Lost Creek Road #434 to Dry Creek Trail #240; two wheel, motorized and mechanized vehicles only.

Amended Direction

Clause c. Swauger Lakes Trail #091—from Long Lost Creek Road #434 to Dry Creek Trail #240; motorized and mechanized vehicles 50″ or less in width only.

Possible Alternatives

Alternatives to the proposed action will be considered and evaluated. The No Action alternative would adopt the existing systems of open roads and trails displayed on current travel plans for the Salmon National Forest and the Challis National Forest and designate those routes as open to public motorized travel.

Alternatives to the Proposed Action and No Action will depict differing combinations of routes to remain open to motorized travel. The Proposed Action and the alternative actions will provide a system of routes that differ from existing conditions and the No Action alternative.

Less restrictive alternatives would generally entail designating a greater number of miles of roads and trails to be open to motorized travel than the Proposed Action. Alternatives considered to be less restrictive could also include fewer constraints on season of use or vehicle types allowed on designated routes. Less restrictive alternatives would generally provide for more motorized recreational use opportunities.

More restrictive alternatives would generally entail designating fewer miles of roads and trails to be open for motorized travel than the Proposed Action or have more constraints on season of use and vehicles types using designated routes. More restrictive alternatives would provide motorized recreational opportunities, yet there may be greater emphasis on non-motorized recreation.

A consequence of designating routes open for motorized travel is that those routes not designated as open would be identified as closed to motorized travel. Road closure procedures that involve ground-disturbing activities would not be part of the Proposed Action or alternatives and would require separate and distinct site-specific NEPA decisions regarding the implementation aspects of road closures. The environmental effects of having roads closed to motorized travel will be evaluated in this analysis.

Identification of new routes that would meet the objectives for a motorized transportation system may be, as appropriate, part of this travel management planning. Separate, site-specific NEPA decisions would be required to implement ground-disturbing activities associated with new route construction.

Responsible Official

William A. Wood, Supervisor, Salmon-Challis National Forest, Headquarters Office, 1206 South Challis Street, Salmon, Idaho 83467, is the responsible official for making the decision and providing direction for the analysis.

Nature of Decision To Be Made

Based on the purpose and need for the proposal, the Forest Supervisor will evaluate the Proposed Action and other alternatives to decide which roads, trails and areas will be designated as open to the public for motorized use and the allowed season and/or type of use for those routes open to motorized travel.

Federal land managers are directed (Executive Order 11644, 36 CFR 212 and 43 CFR 8342.1 to ensure that the use of motorized vehicles and off-road vehicles will be controlled and directed so as to protect the resources of those lands, to promote the safety of users, minimize conflicts among the the various uses of federal lands, and to provide for public use of roads and trails designated as open.

Scoping Process

Preliminary public involvement was initiated in April 2006 to inform the public and stakeholders on the objectives of travel management. The public was also asked to provide input about specific routes they wanted to remain open and/or those routes that may be in conflict with other desired conditions sought by the public on Forest Service Lands. This initial comment period ended in March 2007. The SCNF received many comments on individual routes and numerous general comments about the area and travel management as a whole.

This initial public input was used to develop the preliminary route-by-route Proposed Action which will be now used as the Forest starts the more formal scoping process. The Forest will conduct the following series of public, open-house-style meetings across the Forest and in surrounding communities to discuss the Proposed Action with interested parties and those who may be affected by the proposal:

• Challis, Idaho—August 7, 2007, 4:30-8 p.m. Challis-Yankee Fork Ranger District Office, Highway 93 North.

• Mackay, Idaho—August 8, 2007, 4:30-8 p.m. Lost River Ranger Distrct Office, 716 West Custer Street.

• Salmon, Idaho—August 9, 2007, 4:30-8 p.m. Salmon, Idaho—Public Lands Center, 1206 South Challis Street.

• Idaho Falls, Idaho—August 15, 2007, 4:30-8 p.m. Caribou-Targhee National Forest, Supervisor's Office, 1405 Hollipark Drive.

• Blackfoot, Idaho—August 16, 2007, 4:30-8 p.m. Blackfoot City Council Room, Library Building, 157 No. Broadway.

• North Fork, Idaho—August 22, 2007, 4:30-8 p.m. North Fork Fire Station, Highway 93.

• Leadore, Idaho—August 28, 2007, 4:30-8 p.m. Leadore Community Center, Highway 28.

Notice of all meetings will be posted on the Forest's website and advertised in the Recorder Herald, Challis Messenger, Arco Advertiser, and Post Register newspapers.

Based on comments received as a result of this notice and after the Forest has conducted public meetings and afforded the public sufficient time to respond to the preliminary Proposed Action, the Forest will use the public scoping comments and concerns along with resource-related input from the interdisciplanary team and other agency resource specialists to identify a set of issues to carry forward into the environmental analysis.

Preliminary Issues

The Forest Service has received some indications of potential issues from the initial public involvement process. These potential issues include:

(1) Adverse resource impacts caused by inappropriate types of vehicle use and unrestricted season of use.

(2) Infringement on wildlife caused by roads in important or critical habitat, high density of roads in wildlife habitat areas, and disturbance of wildlife during critical lifecycle periods.

(3) Loss of recreational opportunity when existing routes are closed to motorized travel.

(4) Loss of semi-primitive and primitive recreational opportunity if more routes are open to motorized travel.

(5) Failure to accommodate the growing number of motorized users desiring to use federal lands for recreational riding of ATVs and motorcycles.

(6) Inconsistencies between adjoining public lands.

(7) Enforcement concerns centered on whether the agency has the ability to provide enforcement once decisions have been made on allowed routes and uses for motorized travel.

(8) Safety concerns on routes where multiple vehicle types (full-sized trucks and cars, ATVs, and motorcycles) are allowed.

(9) Conflicts with landowners when routes cross private lands to access federally managed lands.

The Forest Service recognizes that this list of issues may not be complete and issues will be further defined and refined as scoping continues. A comprehensive list of key issues will be determined before the range of alternatives is developed and the environmental analysis is started.

Comment Requested

This notice of intent begins the formal scoping process in the development of the environmental impact statement. All comments received during the initial comment period (April 2006-March 2007) will be brought forward into this formal scoping, and those who commented then need not comment again to have their comments considered, or to demonstrate their interest in this planning process. Any new or additional comments about the proposed action would be most useful if received by September 7, 2007. Persons and organizations commenting during the intitial scoping will be maintained on the mailing list for future information about Salmon-Challis National Forest Travel Management Planning.

Early Notice of Importance of Public Participation in Subsequent Environmental Review: A draft environmental impact statement will be prepared for comment. The comment period on the draft environmental impact statement will be 45 days from the date the Environmental Protection Agency (EPA) publishes the notice of availability in the Federal Register. Written comments are preferred and should include the name and address of the commenter. Comments submitted for this proposed action will be considered part of the public record.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978).) Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: July 25, 2007.
William A. Wood,
Forest Supervisor.

[FR Doc. E7-14977 Filed 8-2-07; 8:45 am]

BILLING CODE 3410-11-P